DEPARTMENT OF DEFENSE

Department of the Navy

[Docket No. USN-2010-0023]

Submission for OMB Review; Comment Request

ACTION: Notice.

The Department of Defense has submitted to OMB for clearance, the following proposal for collection of information under the provisions of the Paperwork Reduction Act (44 U.S.C. Chapter 35).

DATES: Consideration will be given to all comments received by November 1, 2010.

Title and OMB Number: Mental Health Issues among Separating Marines; OMB Number 0703-0056.

Type of Request: Extension.

Number of Respondents: 1,850.

Responses per Respondent: 1.

Annual Responses: 1,850.

Average Burden per Response: 1 hour.

Annual Burden Hours: 1,850 hours.

Needs and Uses: Tens of thousands of Marines transition from the military to civilian life each year, the majority of whom have been exposed to deployment stressors that have put them at high risk for stress-related disorders. This longitudinal study builds on a 2008 pilot study assessing the prevalence of mental health outcomes among Sailors and Marines transitioning from the Service, and identifying predictors of and changes in mental health and resilience over time. For the baseline component of the current study, a paper-and-pencil questionnaire was administered to approximately 2,700 active-duty Marines in the Transition Assistance Program (TAP) during routine mandatory separation counseling via group administration at 6 selected installations worldwide. Based on the estimated number of attendees per TAP class and the number of classes conducted during the 4-month data collection period (January-April 2010), we estimate that approximately 4,900 Marines were eligible for inclusion into the study, giving us an approximate 55 percent response rate. The baseline survey included selected items from the post-deployment health reassessment (PDHRA), along with additional questions on risk factors for poor civilian readjustment, and other biographical and psychological content. DoD regulations stipulate that all military personnel must receive pre-separation counseling no less than 90 days before leaving active duty.

NHRC proposes tracking over time the mental well-being of eligible baseline respondents for the longitudinal portion of the study through a follow-on survey 3 to 6 months after separation from military service, after they have completed the transition from military to civilian life. Data from extant historical personnel and medical files will also be combined with survey data to develop models that demonstrate the influence of combat, and a variety of covariates, on mental health symptoms, resilience, and substance abuse. We estimate that approximately 1,850 of the 2,700 baseline participants will be eligible for and consent to participate in the follow-up survey. In order to facilitate locating these respondents, the baseline questionnaire requested participants provide name, relocation plans, names and contact information for two friends or relatives who always know where the respondent is living, and the respondent's date of birth and social security number. The follow-up survey will be sent to respondents through the mail. Respondents will also have the option of completing this survey via the Web, which will closely simulate the hardcopy version of the instrument.

Affected Public: Individuals or households.

Frequency: Annually.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: September 17, 2010.
Patricia L. Toppings,
OSD Federal Register Liaison Officer, Department of Defense.

[FR Doc. 2010-24520 Filed 9-29-10; 8:45 am]

BILLING CODE 5001-06-P